FEDERAL EMERGENCY MANAGEMENT AGENCY

Agency Information Collection Activities: Submission for OMB Review; Comment Request

ACTION: Notice and request for comments.

SUMMARY: The Federal Emergency Management Agency is submitting a request for review and approval of a collection of information under the emergency processing procedures in the Office of Management and Budget (OMB) regulation 5 CFR 1320.13. FEMA is requesting the collection of information be approved by August 28, 2000.

SUPPLEMENTARY INFORMATION: The Robert T. Stafford Disaster Relief and Emergency Act Public Law 93-288, as amended, authorizes the President to provide assistance to individuals and to State and local government to help them to respond to and recover from a disaster. The National Flood Insurance Program (NFIP) has amended the Standard Flood Insurance Policy to address the “closed basin lake” continuous flooding circumstance. An endorsement has been added to all policies, allowing policyholders to file a total loss claim for the insured building to be continuously inundated for 90 days. The Closed-Basin Lake Endorsement allows policyholder to file a total loss claim for an insured building that is actually damaged or under imminent threat of flooding, without the requirement for the building to be continuously inundated for 90 days. The claim payment must be used by the policyholder to relocate the structure out of the flood area.

Collection of Information

Title: Closed-Basin Lake Endorsement.

Type of Information Collection: New collection.

OMB Number: 3067

Abstract: In order for a community or area to begin the process of being designated a “closed basin lake,” and in order for homeowners and commercial interests to be eligible for a total loss claim under the closed basin lake flood insurance policy endorsement, the community, county, or other local jurisdiction must request this designation in writing to the FEMA Regional Director, through the State NFIP Coordinating Agency. If the Regional Director concurs that a “close basin lake” flooding conditions exists, then he or she will forward a written recommendation to FEMA's Mitigation Directorate, that the Flood Insurance Rate Maps (FIRM) be revised to include an Area of Special Consideration (ASC).

FEMA Forms: 81-42, 81-42A, 81-43.

Affected Public: Individuals or Households, Business or Other For Profit, and State, Local or Tribal Government.

Estimated Total Annual Burden Hours: 235.

Comments

Written comments are solicited to (a) evaluate whether the proposed data collection is necessary for the proper performance of the agency, including whether the information shall have practical utility; (b) evaluate the accuracy of the agency's estimate of the burden of the proposed collection of information; (c) enhance the quality, utility, and clarity of the information to be collected; and (d) minimize the burden of the collection of information on those who are to respond, including through the use of appropriate automated, electronic, mechanical, or other technological collection techniques or other forms of information technology, e.g. permitting electronic submission of responses.

ADDRESSES: Interested persons should submit written comments to the Office of Management and Budget, Office of Information and Regulatory Affairs, ATTN: FEMA Desk Officer, Room 10202, Washington, DC 20503.

FOR FURTHER INFORMATION CONTACT: Requests for additional information or copies of the information collection should be made to Muriel B. Anderson, FEMA Information Collections Officer, Federal Emergency Management Agency, 500 C Street, SW, Room 316, Washington, DC 20472. Telephone number (202) 646-2625. FAX number (202) 646-3524.

Dated: August 17, 2000.
Reginald Trujillo,
Director, Program Services Division, Operations Support Directorate.

[FR Doc. 00-22172 Filed 8-29-00; 8:45 am]

BILLING CODE 6718-01-P